DEPARTMENT OF ENERGY

Federal Energy Regulatory Commission

[Docket Nos. OR96-15-000; OR98-1-000; OR98-2-000 (Consolidated)]

Ultramar Inc., Complainant v. SFPP, L.P. Respondent, ARCO Products Company, a Division of Atlantic Richfield Company; Texaco Refining and Marketing, Inc.; Mobil Oil Corporation, Complainants v. SFPP, L.P. and Ultramar Diamond Shamrock Corporation, Complainant v. SFPP, L.P. Respondent; Notice of Amended Complaint

January 28, 2000.

Take notice that on January 10, 2000, pursuant to Rule 206 of the Commission's Rules of Practice and Procedure (18 CFR 385.206), the Procedural Rules Applicable to Oil Pipeline Proceedings (18 CFR 343.1(a)), and the Commission's Order Establishing Further procedures issued in these dockets on January 13, 1999, Ultramar Diamond Shamrock Corporation and Ultramar Inc. (Ultramar) tendered for filing their amended complaint in the captioned proceedings. This amended complaint modifies and supplements the original complaints filed in these matters by Ultramar in Docket Nos. OR96-15-000 and OR98-2-000 on August 30, 1996 and November 21, 1997 respectively.

On August 30, 1996, Ultramar Inc. filed a complaint against SFPP, in Docket No. OR96-15, asserting that SFPP had violated the Interstate Commerce Act (ICA) by failing to file an interstate tariff for the Watson enhancement facilities (Drain Dry facilities) and that, generally, the rate for the same was and continues to be unjust and unreasonable and without basis.

Ultramar respectfully requests that the Commission: (1) Examine the challenged rates and charges collected by SFPP for its jurisdictional interstate service; (2) order refunds to Ultramar, including appropriate interest thereon, for the applicable reparation periods to the extent the Commission finds that such rates or charges were unlawful; (3) determine just, reasonable, and nondiscriminatory rates for SFPP's jurisdictional interstate service; (4) award Ultramar reasonable attorney's fees and costs; and (5) order such other relief as may be appropriate.

SFPP's motion for a further extension of time file on January 24, 2000 is denied.

Any person desiring to be heard or to protest the amended complaint should file a motion to intervene or a protest with the Federal Energy Regulatory Commission, 888 First Street, N.E., Washington, D.C. 20426, in accordance with Rules 214 and 211 of the Commission's Rules of Practice and Procedure 18 CFR 385.214, 385.211. All such motions or protests should be filed on or before February 14, 2000. Protests will be considered by the Commission in determining the appropriate action to be taken, but will not serve to make protestants parties to the proceeding. Any person wishing to become a party must file a motion to intervene. Copies of this filing are on file with the Commission and are available for public inspection. This filing may be viewed on the web at http://www.ferc.fed.us/online/rims.htm (call 202-208-2222 for assistance). Answers to this amended complaint shall be due on or before February 14, 2000.

David P. Boergers,
Secretary.

[FR Doc. 00-2370 Filed 2-2-00; 8:45 am]

BILLING CODE 6717-01-M